DEPARTMENT OF COMMERCE

International Trade Administration

[A-588-857]

Certain Welded Large Diameter Line Pipe From Japan: Final Results of Changed Circumstances Review

AGENCY: Import Administration, International Trade Administration, U.S. Department of Commerce.

ACTION: Final results of changed circumstances review.

EFFECTIVE DATE: October 22, 2002.

SUMMARY: On June 10, 2002, the Department of Commerce (“the Department”) published a notice of initiation of a changed circumstances review with the intent to revoke, in part, the antidumping duty order on welded large diameter line pipe from Japan with respect to certain welded large diameter line pipe as described below. See Certain Welded Large Diameter Line Pipe From Japan: Notice of Initiation of Changed Circumstances Review of the Antidumping Order, 67 FR 39682 (June 10, 2002) (“Initiation Notice”). On August 16, 2002, the Department published the preliminary results of the changed circumstances review and preliminarily revoked this order, in part, with respect to future entries of certain welded large diameter line pipe as described below, based on the fact that domestic parties have expressed no interest in continuation of the order with respect to these large diameter line pipes. See Certain Welded Large Diameter Line Pipe from Japan: Preliminary Results of Changed Circumstances Review, 67 FR 53565 (August 16, 2002) (“Preliminary Results”). In our Preliminary Results, we gave interested parties an opportunity to comment; however, we did not receive any comments from domestic parties opposing the partial revocation of the order. Therefore, the Department hereby revokes this order with respect to all future entries for consumption of certain welded large diameter line pipe, as described below, effective on the date of publication of this notice in the Federal Register.

FOR FURTHER INFORMATION CONTACT: Shireen Pasha, Import Administration, International Trade Administration, U.S. Department of Commerce, 14th Street and Constitution Avenue NW., Washington, DC 20230; telephone (202) 482-0193.

The Applicable Statute and Regulations

Unless otherwise indicated, all citations to the statute are references to the provisions effective January 1, 1995, the effective date of the amendments made to the Tariff Act of 1930, as amended (“the Act”), by the Uruguay Round Agreements Act. In addition, unless otherwise indicated, all citations to the Department's regulations are to the regulations as codified at 19 CFR Part 351 (2002).

SUPPLEMENTARY INFORMATION:

Background

On December 6, 2001, the Department published in the Federal Register the antidumping duty order on certain welded large diameter line pipe from Japan. See Notice of Antidumping Duty Order: Certain Welded Large Diamter Line Pipe from Japan, 66 FR 63368 (December 6, 2001) (“LDLP Order”). On April 17, 2002, BP America, Inc. (“BP America”), a U.S. importer requested that the Department revoke in part the antidumping duty order on certain welded large diameter line pipe from Japan. Specifically, the U.S. importer requested that the Department revoke the order with respect to imports meeting the following specifications: in API grades X80 or above, having an outside diameter of 48 inches to and including 52 inches, and with a wall thickness of 0.90 inch or more; and, in API grades X100 or above, having an outside diameter of 48 inches to and including 52 inches, and with a wall thickness of 0.54 inch or more. BP America indicated that, based on its consultations with domestic producers, the domestic producers lack interest in producing these sizes.

American Cast Iron Pipe Co., American Steel Pipe Division; Berg Steel Pipe Corp.; and Stupp Corp., the petitioners in the underlying sales at less-than-fair-value investigation (“the petitioners”) (See LDLP Order), filed a letter on May 7, 2002, partially consenting to BP America's request. However, on May 21, 2002, the petitioners filed another letter rescinding their initial response and fully consenting to the exclusion of these sizes from the order, i.e. in API grades X80 or above, having an outside diameter of 48 inches to and including 52 inches, and with a wall thickness of 0.90 inch or more; and, in API grades X100 or above, having an outside diameter of 48 inches to and including 52 inches, and with a wall thickness of 0.54 inch or more. On June 10, 2002, the Department published a notice of initiation of a changed circumstances review of the antidumping duty order on certain welded large diameter line pipe from Japan, meeting the specifications mentioned above. See Initiation Notice.

On August 16, 2002, the Department published the preliminary results of the changed circumstances review. See Preliminary Results. In the Preliminary Results, we indicated that interested parties could submit comments for consideration in the Department's final results. We did not receive any comments.

Scope of Review

The product covered by this antidumping order is certain welded carbon and alloy line pipe, of circular cross section and with an outside diameter greater than 16 inches, but less than 64 inches, in diameter, whether or not stencilled. This product is normally produced according to American Petroleum Institute (API) specifications, including Grades A25, A, B, and X grades ranging from X42 to X80, but can also be produced to other specifications. The product currently is classified under U.S. Harmonized Tariff Schedule (HTSUS) item numbers 7305.11.10.30, 7305.11.10.60, 7305.11.50.00, 7305.12.10.30, 7305.12.10.60, 7305.12.50.00, 7305.19.10.30. 7305.19.10.60, and 7305.19.50.00. Although the HTSUS item numbers are provided for convenience and customs purposes, the written description of the scope is dispositive. Specifically not included within the scope of this investigation is American Water Works Association (AWWA) specification water and sewage pipe and the following size/grade combinations; of line pipe:

—Having an outside diameter greater than or equal to 18 inches and less than or equal to 22 inches, with a wall thickness measuring 0.750 inch or greater, regardless of grade.

—Having an outside diameter greater than or equal to 24 inches and less than 30 inches, with wall thickness measuring greater than 0.875 inches in grades A, B, and X42, with wall thickness measuring greater than 0.750 inches in grades X52 through X56, and with wall thickness measuring greater than 0.688 inches in grades X60 or greater.

—Having an outside diameter greater than or equal to 30 inches and less than 36 inches, with wall thickness measuring greater than 1.250 inches in grades A, B, and X42, with wall thickness measuring greater than 1.000 inches in grades X52 through X56, and with wall thickness measuring greater than 0.875 inches in grades X60 or greater.

—Having an outside diameter greater than or equal to 36 inches and less than 42 inches, with wall thickness measuring greater than 1.375 inches in grades A, B, and X42, with wall thickness measuring greater than 1.250 inches in grades X52 through X56, and with wall thickness measuring greater than 1.125 inches in grades X60 or greater.

—Having an outside diameter greater than or equal to 42 inches and less than 64 inches, with a wall thickness measuring greater than 1.500 inches in grades A, B, and X42, with wall thickness measuring greater than 1.375 inches in grades X52 through X56, and with wall thickness measuring greater than 1.250 inches in grades X60 or greater.

—Having an outside diameter equal to 48 inches, with a wall thickness measuring 1.0 inch or greater, in grades X-80 or greater.

Final Results of Changed Circumstances Review

Pursuant to sections 751(d)(1) of the Act, the Department may revoke an antidumping or countervailing duty order, in whole or in part, based on a review under section 751(b) of the Act (i.e., a changed circumstances review). Section 751(b)(1) of the Act requires a changed circumstances review to be conducted upon receipt of a request, which shows changed circumstances sufficient to warrant a review. Section 351.222(g)(1) of the Department's regulations provides that the Department may revoke an order (in whole or in part) based on changed circumstances, if it determines that: (i) Producers accounting for substantially all of the production of the domestic like product to which the order (or part of the order to be revoked) pertains have expressed a lack of interest in the relief provided by the order, in whole or in part, or (ii) if other changed circumstances sufficient to warrant revocation exist.

Taking into consideration that (1) the petitioners have uniformly expressed that they do not want relief with respect to this particular sub-product, and that (2) there have been no contrary expressions from the remainder of the known LDLP producers, the Department is revoking the order on certain welded large diameter line pipe from Japan, effective on the date of publication of this notice in the Federal Register, with respect to all future entries for consumption of welded large diameter line pipe which meet the specifications detailed above, in accordance with sections 751(b) and (d) and 782(h) of the Act and 19 CFR 351.216. We will instruct the U.S. Customs Service (“Customs”) to terminate suspension of liquidation for all future entries of welded large diameter line pipe (i.e., certain large diameter line pipe) meeting the specifications indicated above.

This determination is issued and published in accordance with sections 751(b)(1) and 777(i)(1) of the Act and 19 CFR 351.216, and 351.222.

Dated: October 11, 2002.
Faryar Shirzad,
Assistant Secretary for Import Administration.

[FR Doc. 02-26861 Filed 10-21-02; 8:45 am]

BILLING CODE 3510-DS-P